DEPARTMENT OF STATE

[Public Notice 3430]

Culturally Significant Objects Imported for Exhibition Determinations: “Painting Revolution: Kandinsky, Malevich and the Russian Avant-Garde”

AGENCY: United States Department of State.

ACTION: Amendment.

SUMMARY: On July 25, 2000, Notice was published on page 45814 of the Federal Register (Volume 65, Number 143) by the Department of State pursuant to Pub. L 3370 relating to the exhibit “Painting Revolution: Kandinsky, Malevich and the Russian Avant-Garde.” The referenced Notice is amended as follows. Replace “July 9, 2001” with “July 29, 2001.”

FOR FURTHER INFORMATION CONTACT: For further information, including a list of exhibit objects, contact Jacqueline Caldwell, Attorney-Adviser, Office of the Legal Adviser, U.S. Department of State (telephone: 202/619-6982). The address is U.S. Department of State, SA-44, 301 4th Street, SW., Room 700, Washington, DC 20547-0001.

Dated: September 27, 2000.
William B. Bader,
Assistant Secretary for Educational and Cultural Affairs, United States Department of State.

[FR Doc. 00-25783 Filed 10-5-00; 8:45 am]

BILLING CODE 4710-08-P